ARCHITECTURAL AND TRANSPORTATION BARRIERS COMPLIANCE BOARD

36 CFR Parts 1193 and 1194

[Docket No. 2011-07]

RIN 3014-AA37

Telecommunications Act Accessibility Guidelines; Electronic and Information Technology Accessibility Standards

AGENCY: Architectural and Transportation Barriers Compliance Board.

ACTION: Notice of hearing.

SUMMARY: The Architectural and Transportation Barriers Compliance Board (Access Board) will hold two public hearings on its recent Advance Notice of Proposed Rulemaking to update its Telecommunications Act Accessibility Guidelines and its Electronic and Information Technology Accessibility Standards.

DATES: The hearings will be held on the following dates:

1. January 11, 2012, 9 to Noon, Washington, DC.

2. March 1, 2012, 1 to 3 p.m., San Diego, CA.

ADDRESSES: The hearing locations are:

1. Washington, DC: Access Board conference room, 1331 F Street NW., suite 800, Washington, DC 20004.

2. San Diego, CA: Manchester Grand Hyatt Hotel, One Market Place, San Diego, CA 92101.

FOR FURTHER INFORMATION CONTACT: Tim Creagan, Office of Technical and Information Services, Architectural and Transportation Barriers Compliance Board, 1331 F Street NW., suite 1000, Washington, DC 20004-1111. Telephone number: (202) 272-0016 (voice); (202) 272-0074 (TTY). Electronic mail address: creagan@access-board.gov.

SUPPLEMENTARY INFORMATION: On December 8, 2011, the Access Board published an advance notice of proposed rulemaking in the Federal Register to continue the process of updating its guidelines for telecommunications equipment covered by Section 255 of the Telecommunications Act of 1996 and its standards for electronic and information technology covered by Section 508 of the Rehabilitation Act Amendments of 1998. 76 FR 76640 (December 8, 2011).

The comment period for the advance notice closes on March 7, 2012. The Board will hold two public hearings during the comment period. The first hearing will be in Washington, DC in the Access Board's conference room at 1331 F Street NW., suite 800, Washington, DC 20004. The second hearing will be held in conjunction with the 27th Annual International Technology and Persons with Disabilities Conference (CSUN Conference) in San Diego, CA at the Manchester Grand Hyatt Hotel, One Market Place, San Diego, CA 92101.

The hearing locations are accessible to individuals with disabilities. Sign language interpreters and real-time captioning will be provided. For the comfort of other participants, persons attending the hearings are requested to refrain from using perfume, cologne, and other fragrances. To pre-register to testify, please contact Kathy Johnson at (202) 272-0041, (202) 272-0082 (TTY), or johnson@access-board.gov. More information and any updates to the hearings will be posted on the Access Board's Web site at http://www.access-board.gov/508.htm.

David M. Capozzi,
Executive Director.

[FR Doc. 2011-32020 Filed 12-13-11; 8:45 am]

BILLING CODE 8150-01-P